SURFACE TRANSPORTATION BOARD

[Docket No. FD 36640]

Midland Railroad, LLC-Acquisition and Change in Operator Exemption-Midland Historical Railway Association

Midland Railroad LLC (MRR), a noncarrier, has filed a verified notice of exemption under 49 CFR 1150.31 to acquire and operate as a common carrier over 11.09 miles of rail line owned by the Midland Historical Railway Association (MHRA) between milepost 14.95 near Baldwin City, Kan., and milepost 26.04 at Ottawa, Kan. (the Line).¹

¹ MMR identifies a discrepancy between the owner of the Line named in the verified notice here and the owner identified in Leavenworth, Lawrence & Galveston Railroad—Operation Exemption—Midland Railway, FD 36300 (STB served Aug. 21, 2019). MMR states that its investigation into the matter indicates that the owner of the Line at the time of the 2019 exemption was MHRA and that it has found no record of a “Midland Railway Company” as an owner of the Line (or even as a distinct corporate entity).

According to the verified notice, MRR and MHRA have reached an agreement pursuant to which MRR will acquire the Line and, upon consummation of the acquisition transaction, replace Leavenworth, Lawrence & Galveston Railroad d/b/a the Baldwin City & Southern Railroad Company (BC&S) as the common carrier service provider on the Line. The verified notice indicates that MHRA controls BC&S and that BC&S does not object to the proposed transaction by which it would be replaced by MRR as operator on the Line.

MRR certifies that the agreement governing the proposed transaction does not have an interchange commitment. MRR further certifies that its projected annual revenues resulting from the transaction will not exceed $5 million and will not result in MRR's becoming a Class I or Class II rail carrier. Under 49 CFR 1150.32(b), a change in operator requires that notice be given to shippers. MRR states that there are currently no customers on the Line, and accordingly, no shippers to notify of the transaction.

The earliest this transaction may be consummated is September 29, 2022. MRR states that it expects to consummate its acquisition of, and commence common carrier operations over, the Line on or after that date.

If the verified notice contains false or misleading information, the exemption is void ab initio. Petitions to revoke the exemption under 49 U.S.C. 10502(d) may be filed at any time. The filing of a petition to revoke will not automatically stay the effectiveness of the exemption. Petitions for stay must be filed no later than September 22, 2022 (at least seven days before the exemption becomes effective).

All pleadings, referring to Docket No. FD 36640, must be filed with the Surface Transportation Board either via e-filing on the Board's website or in writing addressed to 395 E Street SW, Washington, DC 20423-0001. In addition, a copy of each pleading must be served on MRR's representative, Robert A. Wimbish, Fletcher & Sippel LLC, 29 North Wacker Drive, Suite 800, Chicago, IL 60606.

According to MRR, this action is categorically excluded from environmental review under 49 CFR 1105.6(c) and from historic preservation reporting requirements under 49 CFR 1105.8(b).

Board decisions and notices are available at www.stb.gov.

Decided: September 8, 2022.
By the Board, Mai T. Dinh, Director, Office of Proceedings.
Stefan Rice,
Clearance Clerk.

[FR Doc. 2022-19893 Filed 9-14-22; 8:45 am]

BILLING CODE 4915-01-P